DEPARTMENT OF COMMERCE

National Oceanic and Atmospheric Administration

[I.D. 081304B]

Fisheries Off West Coast States and in the Western Pacific; Pacific Coast Groundfish Fishery; Application for an Exempted Fishing Permit

AGENCY: National Marine Fisheries Service (NMFS), National Oceanic and Atmospheric Administration (NOAA), Commerce.

ACTION: Notice of receipt of an application for an exempted fishing permit; request for comments.

SUMMARY: NMFS announces receipt of an application for an exempted fishing permit (EFP) from the California Department of Fish and Game (CDFG). This EFP application applies to limited entry groundfish vessels that are used to fish for flatfish in Federal waters south of 40°10′ N. lat. If awarded, this EFP would allow qualifying vessels to use a flatfish-selective small footrope trawl net to catch and retain groundfish in the trawl rockfish conservation area (RCA) and to retain groundfish species in excess of cumulative trip limits. Participating vessels would be required to use and carry state-sponsored samplers. This EFP proposal is intended to promote the objectives of the Pacific Coast Groundfish Fishery Management Plan (FMP) by providing data that can be used to enhance management of the groundfish fishery.

DATES: Comments must be received by September 7, 2004.

ADDRESSES: You may submit comments, identified by “I.D. 081304B” by any of the following methods:

• E-mail: EFP2004CAFlatfish.nwr@noaa.gov. Include the I.D. number above in the subject line of the message.

• Fax: 206-526-6736, Attn: Becky Renko.

• Mail: D. Robert Lohn, Administrator, Northwest Region, NMFS, 7600 Sand Point Way NE, Seattle, WA 98115-0070, Attn: Becky Renko.

FOR FURTHER INFORMATION CONTACT: Becky Renko (206) 526-6140 or Carrie Nordeen at (206) 526-6144.

SUPPLEMENTARY INFORMATION: This action is authorized by the FMP and implementing regulations at 50 CFR 600.745.

The purpose of this exempted fishing activity would be to collect data on the rate at which unintended species, particularly overfished shelf rockfish such bocaccio and canary rockfish, are taken in commercial catches when an experimental flatfish-selective trawl net is used. If awarded, this EFP would allow six vessels to use the flatfish-selective trawl nets to fish for flatfish in the Trawl RCA south of 40°10′ N. latitude and to retain groundfish species in excess of cumulative trip limits. Participating vessels will be required to carry state-sponsored samplers to monitor fishing activities and collect data that are otherwise not available shoreside.

Shelf flatfish species are abundant and commercially important off California, however, the harvest of these species is constrained by efforts to rebuild overfished shelf rockfish species, particularly bocaccio and canary rockfish. In 2001 and 2002, the Oregon Department of Fish and Wildlife (ODFW) chartered commercial fishing vessels to develop and test flatfish-selective trawl nets. Testing was conducted to compare the new trawl net configurations with those that are typically used in the groundfish fishery. During the initial testing, a gear configuration similar to the design that is proposed for use under this EFP had significant reductions in the catch of overfished rockfish species relative to the catch of flatfish species. An EFP was issued to ODFW in 2003 to evaluate the performance of the experimental trawl net in the commercial flatfish fishery. This trawl net has since been referred to as “selective flatfish trawl gear.”

Because this gear design meets the requirements of small footrope bottom trawl gear, as defined by regulations at 50 CFR 660, it is currently legal to use for fishing and it could become an effective way for fishery participants to reduce rockfish bycatch in the flatfish fishery south of 40°10″ N. lat. Vessels participating under this EFP must submit a net plan and only gear that is consistent with the specified requirements may be used for EFP fishing. Fishing under this EFP will be restricted to areas outside of 3 nautical miles. The proposed EFP fishing period is from September 1 through December 31, 2004.

Data collected during this project are expected to benefit the management of the groundfish fishery by: (1) Providing catch rates by fishing location of species incidentally caught with the experimental flatfish-selective net, (2) allowing for the collection of biological data that is otherwise not available from landed catch, and (3) providing data that can be used to evaluate the full retention of rockfish as a management approach. The information gathered through this EFP may lead to future rulemaking.

The flatfish limits for limited entry trawl gear south of 40°10′ N. lat., as currently published in the Federal Register, will be available to EFP participants. Vessels used to fish under the EFP may fish for these limits within the Trawl RCA as well as in areas not within the Trawl RCA. If the limits are lowered later in the year through an inseason adjustment, the current limits will continue to be allowed under the EFP. The total amount (discard plus retained) of flatfish allowed to be taken under this EFP is not expected to exceed 653 metric tons (mt) and the total amount (discard plus retained) of petrale sole is not expected to exceed 109 mt. The EFP fishing will be constrained by the following EFP limits for overfished species: bocaccio rockfish, 10.0 mt; cowcod, 0.5 mt; yelloweye rockfish, 0.5 mt; canary 0.5 mt; lingcod, 20.0 mt. If the total catch of any one of these overfished species reaches the EFP limit, the EFP will be terminated for the remainder of the 2004 fishing year. All harvests are expected to be within set asides for 2004 EFP harvests and, therefore, no optimum yield is expected to be exceeded.

In accordance with regulations, NMFS determined that CDFG's proposal warranted further consideration and, therefore, consulted with the Council. The Council considered the EFP application during its April 2003 meeting and recommended that NMFS issue the EFP. Contingent on review of public comments, NMFS intends to approve the EFP fishing. A copy of the application is available for review from NMFS (see ADDRESSES).

Authority: 16 U.S.C. 1801 et seq.

Dated: August 18, 2004.
Alan D. Risenhoover,
Acting Director, Office of Sustainable Fisheries, National Marine Fisheries Service.

[FR Doc. E4-1881 Filed 8-20-04; 8:45 am]

BILLING CODE 3510-22-S